DEPARTMENT OF TRANSPORTATION

Federal Aviation Administration

14 CFR Part 71

[Docket No. FAA-2003-15409; Airspace Docket No. 03-ASO-8]

Amendment of Class D and E Airspace; Montgomery, AL; Correction

AGENCY: Federal Aviation Administration (FAA), DOT.

ACTION: Correcting amendment.

SUMMARY: This document contains a correction to the final rule (FAA-2003-15409; 03-ASO-8), which was published in the Federal Register on August 20, 2003, (68 FR 50068), amending Class D, E2, and E5 airspace at Montgomery, AL. This action corrects an error in the legal description for the Class E5 airspace at Montgomery, AL.

EFFECTIVE DATE: Effective 0901 UTC, October 30, 2003.

FOR FURTHER INFORMATION CONTACT: Walter R. Cochran, Manager, Airspace Branch, Air Traffic Division, Federal Aviation Administration, PO Box 20636, Atlanta, Georgia 30320; telephone (404) 305-5586.

SUPPLEMENTARY INFORMATION:

Background

Federal Register Document 03-21323, Docket No. FAA-2003-15409; Airspace Docket 03-ASO-8, published on August 20, 2003, (68 FR 50068), amends Class D, E2 and E5 airspace at Montgomery, AL. An error was discovered in the legal description, describing the Class E5 airspace area. The airspace description contained incorrect geographic position coordinates for Maxwell AFB. This action corrects the error.

Designations for Class E airspace areas extending upward from 700 feet or more above the surface of the earth are published in Paragraph 6005 of FAA Order 7400.9K, dated August 30, 2002, and effective September 16, 2002, which is incorporated by reference in 14 CFR part 71.1 The Class E designation listed in this document will be published subsequently in the Order.

Need for Correction

As published, the final rule contains an error which incorrectly identifies the geographical position coordinates for Maxwell AFB. Accordingly, pursuant to the authority delegated to me, the legal description for the Class E5 airspace area at Montgomery, AL, incorporated by reference at § 71.1, 14 CFR 71.1, and published in the Federal Register on August 20, 2003, (68 FR 50068) is corrected by making the following correcting amendment.

List of Subjects in 14 CFR Part 71

Airspace, Incorporation by reference, Navigation (air).

In consideration of the foregoing, the Federal Aviation Administration corrects the adopted amendment, 14 CFR Part 71, by making the following correcting amendment:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Corrected]

2. The incorporation by reference in 14 CFR 71.1 of Federal Aviation Administration Order 7400.9K, Airspace Designations and Reporting Points, dated August 30, 2002, and effective September 16, 2002, is amended as follows: Paragraph 6005 Class E Airspace Areas Extending Upward from 700 feet or More Above the Surface of the Earth.

* * * * *

ASO AL E5 Montgomery, AL [Corrected]

Montgomery Regional Airport—Dannelly Field, AL

(Lat. 32°18′02″ N., long. 86°23′38″ W.)

Montgomery VORTAC

(Lat. 32°13′20″ N., long. 86°19′11″ W.)

Maxwell AFB

(Lat. 32°22′45″ N., long. 86°21′45″ W.)

Autauga County Airport

(Lat. 32°26′20″ N., long. 86°30′38″ W.)

Wetumpka Municipal Airport

(Lat. 32°31′46″ N., long. 86°19′42″ W.)

That airspace extending upward from 700 feet above the surface within a 7-mile radius of Montgomery Regional Airport-Dannelly Field, and within 4 miles east and 8 miles west of the Montgomery VORTAC 138° radial extending from the 7-mile radius to 16 miles southeast of the Montgomery VORTAC, and within a 7-mile radius of Maxwell AFC and within a 7-mile radius of Autauga County Airport and within a 6.3-mile radius of Wetumpka Municipal Airport.

* * * * *

Issued in College Park, Georgia on August 28, 2003.
Walter R. Cochran,
Acting Manager, Air Traffic Division, Southern Region.

[FR Doc. 03-22799 Filed 9-8-03; 8:45 am]

BILLING CODE 4910-13-M